DEPARTMENT OF THE TREASURY

Submission for OMB Review; Comment Request

March 15, 2007.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before April 20, 2007 to be assured of consideration.

Alcohol and Tobacco Tax and Trade Bureau (TTB)

OMB Number: 1513-0091.

Type of Review: Extension.

Title: Tobacco Products Manufacturers—Notice for Tobacco Products, TTB REC 5210/12 and Records of Operations, TTB REC 5210/1.

Form: TTB 5210/1, 5210/12.

Description: Tobacco products manufacturers maintain a record system showing tobacco and tobacco product receipts, production, and dispositions which support removals subject to tax, transfers in bond, and inventory records. These records are vital to tax enforcement.

Respondents: Business and other for profits.

Estimated Total Burden Hours: 1 hours.

OMB Number: 1513-0108.

Type of Review: Extension.

Title: Recordkeeping for Tobacco Products and Cigarette Papers and Tubes Brought from Puerto Rico to the U.S. 27 CFR 41.105, 41.106, 41.109, 41.110, 41.121.

Description: The prescribed records apply to persons who ship tobacco products or cigarette papers or tubes from Puerto Rico to the United States. The records verify that the amount of taxes to be paid and if required, that the bond is sufficient to cover unpaid liabilities.

Respondents: Business and other for-profit.

Estimated Total Burden Hours: 1 hours.

OMB Number: 1513-XXXX.

Type of Review: Regular.

Title: Permit Application Questions, Amended Permit Application Questions, Claims Questions.

Description: Alcohol and Tobacco Tax and Trade Bureau (TTB), in an ongoing effort to improve its Customer Service, intends to survey its customers and keep track of its progress, as well as identify potential needs, problems, and opportunities for improvement. The respondents will be businesses that hold permits with TTB and permit holders that file claims with TTB. There is no cost to respondents other than their time.

Respondents: Business and other for-profits.

Estimated Total Burden Hours: 625 hours.

Clearance Officer: Frank Foote (202) 927-9347, Alcohol and Tobacco Tax and Trade Bureau, Room 200 East, 1310 G. Street, NW., Washington, DC 20005.

OMB Reviewer: Alexander T. Hunt (202) 395-7316, Office of Management and Budget, Room 10235, New Executive Office Building, Washington, DC 20503.

Michael A. Robinson,
Treasury PRA Clearance Officer.

[FR Doc. E7-5172 Filed 3-20-07; 8:45 am]

BILLING CODE 4810-31-P